DEPARTMENT OF THE INTERIOR

National Park Service

National Register of Historic Places; Notification of Pending Nominations

Nominations for the following properties being considered for listing in the National Register were received by the National Park Service before April 17, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by May 24, 2004.

Carol D. Shull,
Keeper of the National Register of Historic Places.

ARIZONA

Pinal County

Brockway, Dr. George M. and Esther A., House, 501 S. Central Ave., Florence, 04000485

Douglass, James S. Melquides E., House, 850 S. Park St., Florence, 04000486

McGee, James and Mary, House, 330 E. Butte Ave., Florence, 04000487

Yavapai County

Bell, Don, House, 2530 Anapaya Ln., Camp Verde, 04000513

Mountain States Telephone and Telegraph Exchange Building, 116 N. Marina St., Prescott, 04000512

Seligman Commercial Historic District, Roughly bounded by First and Lamport Sts, and Picacho and Railroad Aves., Seligman, 04000511

ARKANSAS

Benton County

Putnam Cemetery, (Benton County MRA) 3504 Magellan Blvd., Bentonville, 04000510

Chicot County

Chicot County Training School, Jct. of Hazel and N. School St., Dermott, 04000490

Harden Family Cemetery, (Ethnic and Racial Minority Settlement of the Arkansas Delta MPS) Hardin Rd., Jennie, 04000508

Clark County

McNeely Creek Bridge,(Historic Bridges of Arkansas MPS)Cty Rd. 12,Beirne, 04000495

Cleburne County

Brewer School,Brewer Rd.,Brewer, 04000506

Conway County

Cove Creek Bridge,AR 124,Martinville, 04000499

Solgohachia Bridge,(Historic Bridges of Arkansas MPS)Cty Rd. 67,Solgohachia, 04000498

Garland County

Lyell, Van, House,130 Van Lyell Terrace,Hot Springs, 04000504

Taylor Rosamond Motel Historic District, (Arkansas Highway History and Architecture MPS)316 Park Ave.,Hot Springs, 04000497

Hot Spring County

Bethel African Methodist Episcopal Church,519 W. Page St.,Malvern, 04000496

Izard County

Mount Olive Cumberland Presbyterian Church, Jct. of Izard Cty Rds. 12 and 18,Mount Olive, 04000503

Jefferson County

Community Theatre,207 W. 2nd Ave.,Pine Bluff, 04000507

Lawrence County

Imboden Methodist Episcopal Church, South,113 Main St.,Imboden, 04000505

Little River County

Old U.S. 71—Wilton Segment,(Arkansas Highway History and Architecture MPS)E of U.S. 71 from Old U.S. 71 and U.S. 71 jct. N to the S bank of the Little River,Wilton, 04000492

Perry County

Bigelow Rosenwald School, Jct. of AR 60 and Bethel AME Rd.,Toad Suck, 04000491

Pulaski County

Wolf Bayou Bridge,(Historic Bridges of Arkansas MPS)Pulaski County Road 85,Scott, 04000502

Saline County

Independent Order of Odd Fellows Building,123-125 North Market,Benton, 04000509

Sebastian County

Old U.S. 71—Devil's Backbone Segment,(Arkansas Highway History and Architecture MPS)S. Coker St. from just SW of Stewart Court to current U.S. 71,Greenwood, 04000488

St. Louis San Francisco (Frisco) Railway Steam Locomotive #4003,100 S 4th St.,Fort Smith, 04000500

Sevier County

Hale Creek Bridge,(Historic Bridges of Arkansas MPS)Cty Rd. 271,Red Wing, 04000489

Oak Grove Rosenwald School,Oak Grove Rd.,Oak Grove, 04000494

Old U.S. 71—Little River Approach,(Arkansas Highway History and Architecture MPS)Ashely Camp Rd. from the N bank of the Little R to S of the old U.S. 71 and AR 27,Ben Lomond, 04000493

Wingo, Otis Theodore and Effiegene Locke, House,510 W. De Queen Ave.,De Queen, 04000501

GEORGIA

Richmond County

Augusta Downtown Historic District,Roughly bounded by 13th St., Gordon Hwy., Walton Way and the Savannah R.,Augusta, 04000515

Terrell County

Parrott Historic District,Roughly centered on the jct. of Main St. and GA Hwy 55/GA Hwy 520,Parrott, 04000528

IOWA

Davis County

West Grove United Methodist Church,21944 Echo Ave.,West Grove, 04000514

LOUISIANA

Catahoula Parish

Paul's Camp South,Address Restricted,Jonesville, 04000529

MASSACHUSETTS

Berkshire County

Maple Street Cemetery,Maple St.,Adams, 04000536

Nantucket County

Engine House No. 6,480 Howard St.,Lawrence, 04000533

Norfolk County

Milton Cemetery,211 Centre St.,Milton, 04000537

Suffolk County

Hibernian Hall,182-186 Dudley St.,Boston, 04000534

Worcester County

Moore State Park Historic District,Address Restricted,Paxton, 04000535

MINNESOTA

Crow Wing County

Cole, A.L., Memorial Building,(Federal Relief Construction in Minnesota MPS)4285 Tower Square,Pequot Lakes, 04000530

Hennepin County

Neils, Frieda and Henry J., House,2801 Burnham Blvd.,Minneapolis, 04000531

Koochiching County

Baker, Alexander, School and E.W. Backus Junior High School,(Federal Relief Construction in Minnesota MPS)900 5th St.,International Falls, 04000538

Sherburne County

Elkhi Stadium,(Federal Relief Construction in Minnesota MPS)Main St. and Norfolk Ave.,Elk River, 04000540

St. Louis County

Virginia City Hall,327 First St. S,Virginia, 04000539

Stevens County

Morris High School,600 Columbia Ave.,Morris, 04000532

MISSOURI

Jackson County

Hyde Park East Historic District, Old,Roughly bounded Armour Blvd., Walnut St., 39th St., and Gillham Rd.,Kansas City, 04000527

Hyde Park West Historic District, Old,Roughly bounded by Linwood Blvd., Central, 39th St., and Baltimore St.,Kansas City, 04000526

NEW JERSEY

Union County

Fanwood Park Historic District,North Ave. and North Martine Ave.,Borough of Fanwood, 04000516

NEW YORK

Bronx County

Rieger's, C., Sons Factory,450-452 E. 148th St.,Bronx, 04000543

New York County

Building at 315-325 West 36th Street,315-325 W. 36th St.,New York, 04000542

Treadwell Farm Historic District, E. 61st and 62nd Sts. bet. Second and Third Aves.,New York, 04000541

Richmond County

Christ Church New Brighton (Episcopal),76 Franklin Ave.,Staten Island, 04000544

OKLAHOMA

Beckham County

West Winds Motel,(Route 66 and Associated Resources in Oklahoma AD MPS)623 Roger Miller,Erick, 04000520

Craig County

McDougal Filling Station,(Route 66 and Associated Resources in Oklahoma AD MPS)443956 E. OK 60,Vinita, 04000521

Creek County

Beard Motor Company,(Route 66 and Associated Resources in Oklahoma AD MPS)210 E. 9th,Bristow, 04000522

Custer County

Y Service Station and Cafe,(Route 66 and Associated Resources in Oklahoma AD MPS)1733 Neptune Dr.,Clinton, 04000523

Lincoln County

Davenport Broadway Avenue Brick Street,1-600 Broadway St.,Davenport, 04000518

Oklahoma County

Paseo Neighborhood Historic District, Roughly by NW, 30th St., North Western Ave., NW, 24th St., and N. Walker Ave., Oklahoma City, 04000517

Ottawa County

Riviera Courts—Motel, (Route 66 and Associated Resources in Oklahoma AD MPS) 1 mi. W of Main on U.S. 69A, Miami, 04000524

Payne County

Oklahoma A & M College Agronomy Barn and Seed House, 2902 W. 6th St. Building #610, Stillwater, 04000519

Rogers County

Chelsea Motel, (Route 66 and Associated Resources in Oklahoma AD MPS) Jct. First and OK 66, Chelsea, 04000525

TENNESSEE

Blount County

Calderwood Hydroelectric Development, (Tapoco Hydroelectric Project MPS) 314 Growdon Blvd., Calderwood, 04000545

Chillowee Hydroelectric Development,

(Tapoco Hydroelectric Project MPS) 6102 TN 129, Tallassee, 04000546

TEXAS

Harris County

Willow Street Pump Station, 811 N. San Jacinto, Houston, 04000547

Taylor County

Burlington Railroad Station, (Abilene MPS) 189 Locust St., Abilene, 04000556

Virginia

Charlotte County

Watkins House, 3115 Briery Rd., Keysville, 04000549

Fauquier County

Crooked Run Valley Rural Historic District, Roughly bounded by Fauquier Cty Line, I-66, VA 712, Naked Mountain, and VA 55, Paris, 04000550

Mt. Bleak—Skye Farm (030-0283),

11012 Edmonds Ln., Delaplane, 04000552

Greene County

Stanardsville Historic District, Roughly along Main St., from Monroe Ave. to Lambs Ln., including parts of Madison Rd., Stanardsville, 04000555

Isle Of Wight County

Rand, William, Tavern, 112 W. Main St., Smithfield, 04000548

Page County

Shenandoah Historic District, Parts of First, Second, Third, Fourth, Fith, Sixth, Seventh, Eight Denver, Long, H, Sts, Central, Maryland, Penn, and Virg. Aves., Shenandoah, 04000554

Rockbridge County

Buffalo Forge (081-0003), 2694 Forge Rd., Glasgow, 04000551

Rockingham County

Mannheim (082-0005), 4713 Wengers Mill Rd., Linville, 04000553

A request for removal has been made for the following resource(s):

Arkansas

Washington County

Washington County Road 80F Bridge, (Historic Bridges of Arkansas MPS) Co. Rd. 80F over Muddy Fork of the Illinois R., Viney Grove vicinity, 95000565

Waters-Pierce Oil Company Building, (Thompson, Charles L., Design Collection TR) West St., Fayetteville, 88002821

Texas

Tarrant County

Bucks Oaks Farm, 6312 White Settlement Rd., Westworth, 87000995

A request for a MOVE has been made for the following resource: Dallas County Ellis, James H. And Molly, House, (East and South Dallas MPS) 2426 Pine, Dallas, 95000323

[FR Doc. 04-10403 Filed 5-6-04; 8:45 am]

BILLING CODE 4312-51-P